COMMODITY FUTURES TRADING COMMISSION

Sunshine Act Meeting

The following notice of a scheduled meeting is published pursuant to the provisions of the Government in the Sunshine Act, Public Law 94-409, 5 U.S.C. 552b.

AGENCY HOLDING THE MEETING: Commodity Futures Trading Commission.

TIMES AND DATES: The Commission has scheduled a meeting for the following date: June 20, 2012 at 10:00 a.m.

PLACE: Three Lafayette Center, 1155 21st St. NW., Washington, DC, Lobby Level Hearing Room (Room 1300).

STATUS: Open.

MATTERS TO BE CONSIDERED: The Commission's Technology Advisory Committee is meeting at the above time and place, and it is expected that a quorum of the Commission will be present at the meeting.

CONTACT PERSON FOR MORE INFORMATION: David A. Stawick, Secretary of the Commission, 202-418-5071.

David A. Stawick,
Secretary of the Commission.

[FR Doc. 2012-14479 Filed 6-8-12; 4:15 pm]

BILLING CODE 6351-01-P